DEPARTMENT OF COMMERCE

National Oceanic and Atmospheric Administration

RIN 0648-XT46

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) will hold a meeting that is open to the public.

DATES: The CPSMT will meet on Tuesday, January 12, 2010 and Wednesday, January 13, 2010, from 8 a.m. to 5 p.m., and again on Thursday, January 14, 2010, from 8 a.m. until business for that day is completed.

ADDRESSES: The CPSMT meeting will be held at the National Marine Fisheries Service, Southwest Fisheries Science Center, Green Room, 8604 La Jolla Shores Drive, La Jolla, CA 92037; telephone: (858) 546-7000.

Council address: Pacific Fishery Management Council, 7700 NE Ambassador Place, Suite 101, Portland, OR 97220-1384.

FOR FURTHER INFORMATION CONTACT: Mike Burner, Staff Officer; telephone: (503) 820-2280.

SUPPLEMENTARY INFORMATION: The purpose of the meeting is to develop alternative amendments to the Pacific Council's Coastal Pelagic Species (CPS) Fishery Management Plan (FMP) in response to new requirements of the Magnuson-Stevens Fishery Conservation and Management Act (MSA) including, overfishing levels (OFLs), acceptable biological catch (ABC), and annual catch limits (ACLs). The CPSMT will discuss CPS FMP amendment alternatives and develop a work plan for completing review materials for the March 2010 meeting of the Pacific Council. The CPSMT will also elect officers for 2010, discuss the 2010 Stock Assessment and Fishery Evaluation document, and address other issues relating to CPS management.

Although non-emergency issues not contained in the meeting agenda may come before the CPSMT for discussion, those issues may not be the subject of formal CPSMT action during this meeting. CPSMT action will be restricted to those issues specifically listed in this notice and any issues arising after publication of this notice that require emergency action under Section 305(c) of the Magnuson-Stevens Fishery Conservation and Management Act, provided the public has been notified of the CPSMT's intent to take final action to address the emergency.

Special Accommodations

This meeting is physically accessible to people with disabilities. Requests for sign language interpretation or other auxiliary aids should be directed to Ms. Carolyn Porter at (503) 820-2280 at least 5 days prior to the meeting date.

Dated: December 22, 2009.
Tracey L. Thompson,
Acting Director, Office of Sustainable Fisheries, National Marine Fisheries Service.

[FR Doc. E9-30613 Filed 12-24-09; 8:45 am]

BILLING CODE 3510-22-S